DEPARTMENT OF TRANSPORTATION

Maritime Administration

[Docket No. DOT-MARAD-2015-0050]

Request for Comments of a Previously Approved Information Collection: U.S. Merchant Marine Academy Candidate Application for Admission

AGENCY: Maritime Administration (MARAD), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on February 18, 2015 (Federal Register 8755, Vol. 80, No. 32).

DATES: Comments must be submitted on or before June 8, 2015.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

SUPPLEMENTARY INFORMATION:

Title: U.S. Merchant Marine Academy Candidate Application for Admission.

OMB Control Number: 2133-0010.

Type of Request: Renewal of a Previously Approved Information Collection.

Abstract: The collection consists of Parts I, II, and III of Form KP 2-65 (U.S. Merchant Marine Academy Candidate Application). Part I of the form is completed by individuals wishing to be admitted as students to the U.S. Merchant Marine Academy.

Affected Public: Individuals desiring to become students at the U.S. Merchant Marine Academy.

Forms: KP 2-65.

Estimated Number of Respondents: 2,500.

Estimated Number of Responses: 2,500.

Annual Estimated Total Annual Burden Hours: 12,500.

FOR FURTHER INFORMATION CONTACT: Maritime Administration, U.S. Department of Transportation, 1200 New Jersey Avenue SE., Washington, DC 20590.

Authority: The Paperwork Reduction Act of 1995; 44 U.S.C. chapter 35, as amended; and 49 CFR 1.93

Dated: May 4, 2015.
Thomas M. Hudson, Jr.,
Acting Secretary, Maritime Administration.

[FR Doc. 2015-11255 Filed 5-7-15; 8:45 am]

BILLING CODE 4910-81-P